DEPARTMENT OF LABOR

Pension and Welfare Benefits Administration

Proposed Extension of Information Collection Request Submitted for Public Comment and Recommendations; Mental Health Parity

ACTION: Notice.

SUMMARY: The Department of Labor, as part of its continuing effort to reduce paperwork and respondent burden, conducts a preclearance consultation program to provide the general public and other federal agencies with an opportunity to comment on proposed and continuing collections of information in accordance with the Paperwork Reduction Act of 1995 (PRA95)(44 U.S.C. 3506(c)(2)(A)). This program helps to ensure that requested data is provided in the desired format, reporting burden (time and financial resources) is minimized, collection instruments are clearly understood, and the impact of collection requirements on respondents can be properly assessed.

By this notice, the Department of Labor's Pension and Welfare Benefits Administration (PWBA) is soliciting comments on the extension of the information collection requests (ICRs) included in the Interim Rules for Mental Health Parity as published in the Federal Register on December 22, 1997 (62 FR 66931)(Interim rules). OMB approved the three separate ICRs through August 31, 2001 under OMB control numbers 1210-0105, 1210-0106, and 1210-0107, respectively. Copies of the ICRs for 1210-0105 and 1210-0106 may be obtained by contacting the office shown below in the addresses section of this notice. The approval for the ICR approved under 1210-0107 will be allowed to expire because it pertained to a specific transitional period, and is no longer applicable.

DATES: Written comments must be submitted to the office listed in the addresses section on or before August 20, 2001.

ADDRESSES: Interested parties are invited to submit written comments regarding the ICRs to Mr. Gerald B. Lindrew, Office of Policy and Research, U.S. Department of Labor, Pension and Welfare Benefits Administration, 200 Constitution Avenue, NW., Room N-5647, Washington, DC 20210. Telephone: (202) 219-4782. Fax: (202) 219-4745 (these are not toll-free numbers).

SUPPLEMENTARY INFORMATION:

I. Background

The purpose of this notice is to seek comments from the public prior to submission to OMB for continued approval of two of the three information collection requests included in the Interim Final Rules. The Mental Health Parity Act of 1996 (MHPA) (Pub. L. 104-204) generally requires that group health plans provide parity in the application of dollar limits between mental health and medical/surgical benefits. The statute exempts plans from this requirement if its application results in an increase in the cost under the plan or coverage of at least one percent. The Interim Final Rules under 29 CFR 2590.712(f)(3)(i) and (ii) require a group health plan electing this exemption to provide a written notice to participants and beneficiaries and to the federal government of the plan's election of the exemption. This notice requirement is approved under OMB control number 1210-0105. To satisfy the requirement to notify the federal government, a group health plan may either send the Department a copy of the summary of material reductions in covered services or benefits sent to participants and beneficiaries, containing the plan number and the plan sponsor's employer identification number, or the plan may use the Department's model notice published in the Interim Final Rule which was developed for this purpose.

The second ICR, approved under OMB control number 1210-0106, is a summary of the information used to calculate the plan's increased costs under the MHPA for purposes of electing the one percent increased cost exemption, which the plan must make available to participants and beneficiaries, on request at no charge. Under 29 CFR 2590.712(f)(2), a group health plan wishing to elect the one percent exemption must calculate their increased costs according to certain rules. Under 29 CFR 2590.712(f)(4), a group health plan electing the one percent exemption is obligated to disclose to participants and beneficiaries (or their representatives), on request and at not charge, a summary of the information on which the exemption was based.

The third ICR, found in 29 CFR 2590.712(h)(3)(ii), was a notice of a group health plan's use of the transition period. This ICR was originally approved under OMB control number 1210-0107. This provision required plans exercising the one percent increased cost exemption during all or part of the first quarter of 1998 under the rule's transition provisions to notify the federal government, and to post a copy of this notice in a location where documents are made available for examination by participants and beneficiaries pursuant to section 104 of ERISA. Because the transition period is concluded, this requirement no longer applies and the ICR will be allowed to expire.

Type of Review: Extension of a currently approved collection.

Agency: U.S. Department of Labor, Pension and Welfare Benefits Administration.

Title: Notice to Participants and Beneficiaries and the Federal Government of Electing One Percent Increased Cost Exemption.

OMB Number: 1210-0105.

Affected Public: Individuals or households; Business or other for-profit; Not-for-profit institutions.

Frequency: On occasion.

Respondents: 10.

Responses: 10,000.

Estimated burden hours (Operating and Maintenance): 333.

Estimated burden costs: $5,000.

Title: Calculation and Disclosure of Documentation of Eligibility for Exemption.

OMB Number: 1210-0106.

Affected Public: Individuals or households; Business or other for-profit; Not-for-profit institutions.

Frequency: On occasion.

Respondents: 10.

Responses: 200.

Estimated burden hours (Operating and Maintenance): 10.

Estimated burden costs: $100.

II. Desired Focus of Comments

The Department of Labor is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Department intends to request an extension of the ICRs currently approved under control numbers 1210-0105 and 1210-0106 without change to the existing information collection provisions. Although MHPA requirements will not apply to benefits for services furnished on or after September 30, 2001 in accordance with the sunset provision of section 712(f) of ERISA, in order to ensure that participants and beneficiaries are aware of their rights under group health plans, the Department intends to maintain the clearance of the notice and disclosure provisions of MHPA through September 30, 2001 and until such time as the sunset provision has taken effect without additional Congressional action that would have the effect of extending the duration of MHPA's applicability.

Comments submitted in response to this notice will be summarized and/or included in the request for OMB approval of the ICRs; they will also become a matter of public record.

Dated: June 14, 2001.
Gerald B. Lindrew,
Deputy Director, Pension and Welfare Benefits Administration, Office of Policy and Research.

[FR Doc. 01-15536 Filed 6-19-01; 8:45 am]

BILLING CODE 4510-29-M